DEPARTMENT OF ENERGY

Federal Energy Regulatory Commission

[Docket No. EL00-50-000]

Northeast Energy Associates, a Limited Partnership v. Boston Edison Company; Notice of Filing

March 10, 2000.

Take notice that on March 8, 2000, Northeast Energy Associates, a Limited Partnership, tendered for filing a complaint against Boston Edison Company alleging violations of the Interconnection Agreement between those parties.

Any person desiring to be heard or protest such filing should file a motion to intervene or protest with the Federal Energy Regulatory Commission, 888 First Street, NE, Washington, DC 20426, in accordance with Rules 211 and 214 of the Commission's Rules of Practice and Procedure (18 CFR 385.211 and 385.214). All such motions or protests should be filed on or before March 20, 2000. Protests will be considered by the Commission in determining the appropriate action to be taken, but will not serve to make protestants parties to the proceeding. Any person wishing to become a party must file a motion to intervene. Copies of this filing are on file with the Commission and are available for public inspection. This filing may also be viewed on the Internet at http://www.ferc.fed.us/online/rims.htm (call 202-208-2222 for assistance). Answers to the complaint shall also be due on or before March 20, 2000.

Linwood A. Watson, Jr.,
Acting Secretary.

[FR Doc. 00-6450 Filed 3-15-00; 8:45 am]

BILLING CODE 6717-01-M